DEPARTMENT OF HOMELAND SECURITY

Federal Emergency Management Agency

44 CFR Part 67

[Docket ID FEMA-2008-0020; Internal Agency Docket No. FEMA-B-1064]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before December 14, 2009.

ADDRESSES: The corresponding preliminary Flood Insurance Rate Map (FIRM) for the proposed BFEs for each community is available for inspection at the community's map repository. The respective addresses are listed in the table below.

You may submit comments, identified by Docket No. FEMA-B-1064, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Baxter County, Arkansas, and Incorporated Areas
North Fork River | Just downstream of State Highway 177 | +397 | +398 | City of Norfork, Unincorporated Areas of Baxter County, City of Salesville.
| At the confluence with White River | +397 | +398
Tributary #1 to Dodd Creek | At the confluence with Dodd Creek | +784 | +785 | City of Mountain Home.
| Approximately 505 feet upstream of Burnett Drive | None | +834
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Baxter County
Maps are available for inspection at the County Courthouse, 1 East 7th Street, Mountain Home, AR 72653.
City of Mountain Home
Maps are available for inspection at 720 South Hickory Street, Mountain Home, AR 72653.
City of Norfork
Maps are available for inspection at 49 City Hall Circle, Norfork, AR 72658.
City of Salesville
Maps are available for inspection at 46 Salesville Circle, Salesville, AR 72653.
Kauai County, Hawaii, and Incorporated Areas
Pacific Ocean | On the Pacific Ocean coastline, on the east side of the island, approximately 0.6 mile northeast of Kuahona Point | None | #1 | Unincorporated Areas of Kauai County.
| On the Pacific Ocean coastline, on the east side of the island, approximately 0.9 mile southeast of the intersection of Niumalu Road and Hulemalu Road | None | #89 |
| Approximately 2,075 feet southeast of the intersection of Waapa Road and Niumalu Road | None | #1 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Kauai County
Maps are available for inspection at the Department of Public Works, 4444 Rice Street, Suite 175, Lihue, HI 96766.
Delaware County, Indiana, and Incorporated Areas
Muncie Creek | Just downstream of McCulloch Boulevard | +939 | +939 | City of Muncie, Unincorporated Areas of Delaware County.
| Just downstream of Norfolk Southern Railroad | None | +959
West Fork White River | Approximately 2,200 feet downstream of Interstate 69 | +872 | +873 | Unincorporated Areas of Delaware County, City of Muncie, Town of Daleville, Town of Yorktown.
| Approximately 17,780 feet upstream of County Road 700 | +993 | +992
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Muncie
Maps are available for inspection at City Hall, 300 North High Street, Muncie, IN 47334.
Town of Daleville
Maps are available for inspection at the Town Hall, 8019 Walnut Street, Daleville, IN 47334.
Town of Yorktown
Maps are available for inspection at the Town Hall, 9800 West Smith Street, Yorktown, IN 47396.
Unincorporated Areas of Delaware County
Maps are available for inspection at the County Building, 100 West Main Street, Muncie, IN 47305.
Tangipahoa Parish, Louisiana, and Incorporated Areas
Ponchatoula Creek | Approximately 1,726 feet upstream of the confluence of Ponchatoula Creek and Unnamed Tributary | None | +79 | Town of Independence.
| Approximately 1.92 miles upstream of the confluence of Ponchatoula Creek and Unnamed Tributary | None | +87 |
Tangipahoa River | Approximately 1.18 miles upstream of the confluence of the Tangipahoa River and Big Creek | None | +118 | Town of Roseland.
| Approximately 1,809 feet downstream of the intersection of the Tangipahoa River and Highway 10 | None | +126 |
Unnamed Tributary | Approximately 0.65 miles upstream of the confluence of Unnamed Tributary and Ponchatoula Creek | None | +79 | Town of Independence.
| Approximately 0.81 miles upstream of the confluence of Unnamed Tributary and Ponchatoula Creek | None | +80 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Independence
Maps are available for inspection at P.O. Box 35, Independence, LA 70443.
Town of Roseland
Maps are available for inspection at 62438 Commercial Drive, Roseland, LA 70546.
Todd County, Minnesota, and Incorporated Areas
Long Prairie River | Approximately 15,140 feet downstream of U.S. Highway 71 | None | +1284 | City of Long Prairie, Unincorporated Areas of Todd County.
| Approximately 3,950 feet upstream of Riverside Drive/County Highway 56 | None | +1293
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Long Prairie
Maps are available for inspection at 615 Lake Street South, Long Prairie, MN 56347.
Unincorporated Areas of Todd County
Maps are available for inspection at 215 1st Avenue South, Suite 201, Long Prairie, MN 56347.
Grant County, New Mexico, and Incorporated Areas
Cotton Wood Creek | Approximately 400 feet upstream of the confluence with Silva Creek | None | +5942 | Unincorporated Areas of Grant County.
| Just downstream of Little Walnut Road | None | +5987 |
Maunde's Creek | Approximately 1.0 miles downstream of Rosedale Road | None | +5698 | Unincorporated Areas of Grant County.
| Approximately 1.1 miles upstream of the confluence with Central Arroyo | None | +6122 |
Pinos Altos Creek | Approximately 0.4 miles upstream of North Fowler Avenue | None | +6116 | Unincorporated Areas of Grant County.
| Approximately 0.5 miles upstream of North Fowler Avenue | None | +6130 |
San Vicente Arroyo | Approximately 1,000 feet downstream of Broken Arrow Drive | None | +5623 | Unincorporated Areas of Grant County.
| Approximately 700 feet upstream of the confluence with Tributary No. 4 (San Vicente Arroyo) | None | +5762 |
Silva Creek | Approximately 400 feet upstream of the confluence with Silva Creek | None | +5942 | Unincorporated Areas of Grant County.
| Approximately 300 feet upstream of Jade Drive | None | +5993 |
Tributary No. 1 (Maude's Creek) | At the confluence with Maude's Creek | None | +5858 | Unincorporated Areas of Grant County.
| Approximately 1,300 feet downstream of Silver Heights Boulevard | None | +6006 |
Tributary No. 2 (Maude's Creek) | Approximately 800 feet upstream of Yellow Arrow Lane | None | +5853 | Unincorporated Areas of Grant County.
| Approximately 1,900 feet upstream of Yellow Arrow Lane | None | +5868 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Grant County
Maps are available for inspection at 1400 Highway 180 East, Silver City, NM 88061.
Seminole County, Oklahoma, and Incorporated Areas
Tributary 3 of Magnolia Creek | Approximately 1.3 miles upstream of confluence with Tributary 1 of Tributary 3 of Magnolia Creek | +955 | +953 | Unincorporated Areas of Seminole County.
| Approximately 1.7 miles upstream of confluence with Tributary 1 of Tributary 3 of Magnolia Creek | +966 | +967 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Seminole County
Maps are available for inspection at 110 South Wewoka Avenue, Wewoka, OK 74884.
Meigs County, Tennessee, and Incorporated Areas
Dake Branch | At the confluence with Watts Creek | None | +696 | Unincorporated Areas of Meigs County.
| Approximately 0.8 miles upstream of the confluence with Watts Creek | None | +696
Decatur Branch | At the confluence of Decatur Creek | None | +732 | Town of Decatur.
| Approximately 0.5 miles upstream of Church Lane | None | +745 |
Decatur Creek | Approximately 0.5 miles downstream of State Highway 58 | None | +730 | Town of Decatur.
| Approximately 605 feet upstream of State Highway 58 | None | +742 |
Watts Creek | At the confluence with Tennessee River | None | +696 | Unincorporated Areas of Meigs County.
| Approximately 1.9 miles upstream of the confluence with Tennessee River | None | +696 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Meigs County
Maps are available for inspection at the County Courthouse, 17214 State Highway 58 North, Decatur, TN 37322.
Town of Decatur
Maps are available for inspection at City Hall, 17454 State Highway 58 North, Decatur, TN 37322.
Burleson County, Texas, and Incorporated Areas
Copperas Hollow Creek | Approximately 0.3 miles upstream of Country Club Drive | +366 | +367 | Unincorporated Areas of Burleson County.
| Approximately 630 feet downstream of the Burlington Northern Santa Fe Railroad | +379 | +378 |
Elm Branch | At the confluence with Elm Branch | +339 | +341 | Unincorporated Areas of Burleson County.
Tributary 1 | Just downstream of 10th Street | +371 | +372 |
Stream TCA | Just downstream of the Burlington Northern Santa Fe Railroad | +250 | +246 | Unincorporated Areas of Burleson County, City of Somerville.
| Approximately 650 feet upstream of County Road 422 | +250 | +254 |
Stream TCB | At the confluence with Stream TCA | +250 | +247 | City of Somerville.
| Approximately 1,000 feet upstream of Avenue E | +250 | +251 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Somerville
Maps are available for inspection at P.O. Box 159, Somerville, TX 77879.
Unincorporated Areas of Burleson County
Maps are available for inspection at 100 West Buck, Suite 306, Caldwell, TX 77836.

(Catalog of Federal Domestic Assistance No. 97.022, “Flood Insurance.”)

Edward L. Connor,
Acting Assistant Administrator for Mitigation, Mitigation Directorate, Department of Homeland Security, Federal Emergency Management Agency.

[FR Doc. E9-22111 Filed 9-14-09; 8:45 am]

BILLING CODE 9110-12-P